DEPARTMENT OF HEALTH AND HUMAN SERVICES

Food and Drug Administration

21 CFR Part 14

[Docket No. FDA-2013-N-1380]

Advisory Committee; Veterinary Medicine Advisory Committee; Termination

AGENCY: Food and Drug Administration, HHS.

ACTION: Final rule.

SUMMARY: The Food and Drug Administration (FDA) is announcing the termination of the Veterinary Medicine Advisory Committee. This document removes the Veterinary Advisory Committee from the Agency's list of standing advisory committees.

DATES: This rule is effective November 22, 2013.

FOR FURTHER INFORMATION CONTACT: Michael Ortwerth, Advisory Committee Oversight and Management Staff, Food and Drugs Administration, 10903 New Hampshire Ave., Bldg. 32, Rm. 5129, Silver Spring MD 20993-0002, FAX: 301-847-8640, or email at Michael.Ortwerth@fda.hhs.gov.

SUPPLEMENTARY INFORMATION: The Veterinary Medicine Committee was established on April 24, 1984 (49 FR 20809; May 17, 1984). The purpose of the Committee was to review and evaluate available data concerning safety and effectiveness of marketed and investigational new animal drugs, feeds, and devices for use in the treatment and prevention of animal diseases and increased animal production. The Committee is no longer needed and was terminated on September 24, 2013.

Under 5 U.S.C. 553(b)(3)(B) and (d) and 21 CFR 10.40 (d) and (e), the Agency finds good cause to dispense with notice and public comment procedures and to proceed to an immediate effective date on this rule. Notice and public comment and a delayed effective date are unnecessary and are not in the public interest as this final rule merely removes the name of the Veterinary Medicine Advisory Committee from the list of FDA's standing advisory committees in 21 CFR 14.100.

Therefore, the Agency is amending 21 CFR 14.100(f) as set forth in the regulatory text of this document.

List of Subjects in 21 CFR Part 14

Administrative practice and procedure, Advisory committees, Color additives, Drugs, Radiation protection.

Therefore, under the Federal Food, Drug, and Cosmetic Act and under authority delegated to the Commissioner of Food and Drugs, 21 CFR part 14 is amended as follows:

PART 14—PUBLIC HEARING BEFORE A PUBLIC ADVISORY COMMITTEE:

1. The authority citation for 21 CFR part 14 continues to read as follows:

Authority: 5 U.S.C. App. 2; 15 U.S.C. 1451-1461, 21 U.S.C. 41-50, 141-149, 321-394, 467f, 679, 821, 1034; 28 U.S.C. 2112; 42 U.S.C. 201, 262, 263b, 264; Pub. L. 107-109; Pub. L. 108-155.

§ 14.100 [Amended]

2. Section 14.100 is amended by removing paragraph (f) and redesignating paragraph (g) as paragraph (f).

Dated: November 14, 2013.
Jill Hartzler Warner,
Acting Associate Commissioner for Special Medical Programs.

[FR Doc. 2013-27854 Filed 11-21-13; 8:45 am]

BILLING CODE 4160-01-P